DEPARTMENT OF ENERGY

Federal Energy Regulatory Commission

18 CFR Part 4

Licenses, Permits, Exemptions, and Determination of Project Costs

CFR Correction

In Title 18 of the Code of Federal Regulations, Parts 1 to 399, revised as of April 1, 2018, on page 102, in § 4.39, the first sentence of paragraph (a) is removed.

[FR Doc. 2018-23332 Filed 10-23-18; 8:45 am]

BILLING CODE 1301-00-D